DEPARTMENT OF HEALTH AND HUMAN SERVICES

Agency for Healthcare Research and Quality

Statement of Organization, Functions, and Delegations of Authority

The Agency for Healthcare Research and Quality (AHRQ) is amending Part E, Chapter E, of the Statement of Organization, Functions, and Delegations of Authority for the Department of Health and Human Services (61 FR 15955, April 10, 1996, most recently amended at 68 FR 44084, July 25, 2003) to reflect recent organizational changes.

AHRQ is consolidating all existing Office of Communications and Knowledge Transfer (OCKT) (see http://www.ahrq.gov/about/ockt/ocktmiss.htm) subdivisions to streamline information synthesis and dissemination activities. The specific amendments are as follows, under Section E-20, Functions:

• Delete the title and statement for Division of Print and Electronic Publishing (EBB) in its entirety;

• Delete the title and statement for Division of Public Affairs (ENC) in its entirety; and,

• Delete the title and statement for Division of User Liaison and Research Translation (END) in its entirety.

These changes are effective upon the date of the Director of AHRQ's signature.

Dated: February 28, 2008.
Carolyn M. Clancy,
AHRQ Director.

[FR Doc. E8-4458 Filed 3-7-08; 8:45 am]

BILLING CODE 4160-90-M